FEDERAL MEDIATION AND CONCILIATION SERVICE

Arbitrator's Report and Fee Statement

AGENCY: Federal Mediation and Conciliation Service (FMCS).

ACTION: 30-Day notice and request for comments.

SUMMARY: The Federal Mediation and Conciliation Service (FMCS), invites the public and other Federal Agencies to take this opportunity to comment on the following information collection request, Arbitrator's Report and Fee Statement, FMCS Form R-19. This information collection request was previously approved by the Office of Management Budget (OMB) but has expired. FMCS is requesting a reinstatement without change. The Arbitrator's Report and Fee Statement, FMCS Form R-19, allows FMCS to comply with its statutory obligation to make governmental facilities available for voluntary arbitration. To carry out this policy, FMCS has issued regulations which provide for the operation and maintenance of a roster of professional arbitrators. The FMCS Form R-19, which arbitrators file with the Agency following each decision rendered, allows FMCS to monitor the work of the arbitrator and to collect arbitration information, such as median arbitrator fees and days spent on each case, for the Agency's annual report.

DATES: Comments must be submitted on or before June 27, 2022.

ADDRESSES: You may submit comments, identified by Arbitrator's Report and Fee Statement (FMCS Form R-19), through one of the following methods:

• Email: Arthur Pearlstein, apearlstein@fmcs.gov;

• Mail: Arthur Pearlstein, HQ Office of Arbitration, One Independence Square, 250 E St. SW, Washington, DC 20427. Please note that at this time, FMCS mail is sometimes delayed. Therefore, we encourage emailed comments.

FOR FURTHER INFORMATION CONTACT: Arthur Pearlstein, 202-606-8103, apearlstein@fmcs.gov.

SUPPLEMENTARY INFORMATION: Copies of the agency form are available here. Paper copies are available from the Office of Arbitration Services by emailing Arthur Pearlstein at the email address above. Please ask for the Arbitrator's Report and Fee Statement (FMCS Form R-19).

I. Information Collection Request

Agency: Federal Mediation and Conciliation Service.

Form Number: OMB No. 3076-0003.

Type of Request: Reinstatement without change of a previously approved collection.

Affected Entities: Individual arbitrators who render decisions under FMCS Arbitration policies and procedures.

Frequency: This form is completed each time an Arbitrator hears an arbitration case and issues a decision.

Abstract: Pursuant to 29 U.S.C. 171(b) and 29 CFR part 1404, FMCS assumes responsibility to monitor the work of the arbitrators who serve on its Roster. This is satisfied by requiring the completion and submission of a Report and Fee Statement, which indicates when the arbitration award was rendered, the file number, the company and union, the issues, whether briefs were filed and transcripts taken, if there were any waivers by parties on the date the award was due, and the fees and days for services of the arbitrator. FMCS publishes this information in the agency's annual report, to inform the public about the arbitration services program and certain national trends in arbitration.

Burden: FMCS receives approximately 2,000 responses per year. The form is filled out each time an arbitrator hears a case and the time required is approximately five minutes. FMCS uses this form to review arbitrator conformance with its fee and expense reporting requirements.

II. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

III. 60-Day Comment Period

This information was previously published in the Federal Register on March 22, 2022, allowing for a 60-day public comment period under Document 2022-06070 at 87 FR 16186. FMCS received no comments.

IV. The Official Record

The official records are electronic records.

List of Subjects

Labor-Management Relations.

Dated: May 23, 2022.
Anna Davis,
Acting General Counsel.

[FR Doc. 2022-11341 Filed 5-25-22; 8:45 am]

BILLING CODE 6732-01-P